DEPARTMENT OF VETERANS AFFAIRS

[OMB Control No. 2900-0003]

Agency Information Collection Activity Under OMB Review: Application for Burial Benefits (Under 38 U.S.C. Chapter 23)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0003.

FOR FURTHER INFORMATION CONTACT: Maribel Aponte, Office of Enterprise and Integration, Data Governance Analytics (008), 1717 H Street NW, Washington, DC 20006, (202) 266-4688 or email maribel.aponte@va.gov. Please refer to “OMB Control No. 2900-0003” in any correspondence.

SUPPLEMENTARY INFORMATION: Authority: 38 U.S.C. 2302, 2303, 2304, 2307, and 2308.

Title: Application for Burial Benefits (Under 38 U.S.C. chapter 23), VA Form 21P-530EZ.

OMB Control Number: 2900-0003.

Type of Review: Revision of a currently approved collection.

Abstract: The major use of the form is to determine a claimant's eligibility to for monetary burial benefits, including the burial allowance, plot or interment allowance, and transportation reimbursement for a deceased Veteran.

The respondent burden has increased due to the estimated number of receivables averaged over the past year.

VA Form 21P-530EZ has been updated as follows:

• Updated instructions to reflect the regulation change and updates to the form

• Split Section I into Section I—Veteran's Information and Section II—Claimant's Information

• Moved Veteran's Information Questions to Section I

• Changed Section Titles to Section III—Veteran's Service Information; Section IV—Information Regarding Final Resting Place; Section V—Claim for Burial Allowance; Section VI—Claim for Plot and/or Transportation Allowance

• Question 18—added Tribal trust land, name of cemetery or tribal trust land and zip code

• Question 20A—removed VA Hospitalization Death/Amount paid from (now covered under non-service-connected burial allowance)

• Moved Question 20A to Section VI (now question 23)

An agency may not conduct or sponsor, and a person is not required to respond to a collection of information unless it displays a currently valid OMB control number. The Federal Register Notice with a 60-day comment period soliciting comments on this collection of information was published at 87 FR 23325 on April 19, 2022, pages 23325-23326.

Affected Public: Individuals or Households.

Estimated Annual Burden: 64,223.50.

Estimated Average Burden per Respondent: 30 minutes.

Frequency of Response: On occasion.

Estimated Number of Respondents: 128,447.

By direction of the Secretary.
Dorothy Glasgow,
VA PRA Clearance Officer, (Alt.) Office of Enterprise and Integration, Data Governance Analytics, Department of Veterans Affairs.

[FR Doc. 2022-14019 Filed 6-29-22; 8:45 am]

BILLING CODE 8320-01-P